DEPARTMENT OF TRANSPORTATION

Federal Highway Administration

23 CFR Part 630

[FHWA Docket No. FHWA-2001-11130]

RIN 2125-AE29

Work Zone Safety

AGENCY: Federal Highway Administration (FHWA), DOT.

ACTION: Notice of public meetings.

SUMMARY: The FHWA published an Advance Notice of Proposed Rulemaking (ANPRM) on February 6, 2002 (67 FR 5532), to obtain comments on the current work zone safety regulation. The purpose of the ANPRM was to seek comments regarding improvements that can be made to its regulation on Traffic Safety in Highway and Street Work Zones to better address work zone mobility and safety concerns. On June 6, 2002, the comment period closed, and the FHWA began to analyze the comments provided. This meeting is being held to highlight the reasons for the ANPRM, present a summary of the comments received, and discuss, based on the comments received, the possible impacts that a rulemaking might have on the current regulation.

DATES: The meetings will be held Thursday, August 29, Thursday, September 19, and Wednesday, September 25, 2002 from 10:00 to 2:00 p.m.

ADDRESSES: Cambridge Systematics, 4445 Willard Avenue, Suite 300, Chevy Chase, MD 20815. Telephone: (301) 347-0100 and Fax: (301) 347-0101.

FOR FURTHER INFORMATION CONTACT: Materials associated with this meeting may be examined at the office of Cambridge Systematics, 4445 Willard Avenue, Suite 300, Chevy Chase, MD 20815. Persons needing further information or who request to speak at this meeting should contact Mike Harris at PB Farradyne, Inc. by telephone at (703) 742-5759 or by Fax at (703) 742-5989. The U.S. DOT contact is Scott Battles, FHWA, 400 Seventh Street, SW., Washington, D.C. 20590, (202) 366-4372. Office hours are from 7:45 a.m. to 4:15 p.m., e.t., Monday through Friday, except for legal holidays.

SUPPLEMENTARY INFORMATION:

Electronic Access

An electronic copy of this document may be downloaded by using a computer, modem, and suitable communications software from the Government Printing Office's Electronic Bulletin Board Service at (202) 512-1661. Internet users may reach the Office of the Federal Register's home page at: http:// www.nara.gov/fedreg and the Government Printing Office's web site at http://www.access.gpo.gov.

Authority: 23 U.S.C. 106, 109, 115, 315, 320, and 402(a); 23 CFR 1.32; 49 CFR 1.48; sec. 1051, Pub. L. 102-240, 105 Stat. 2001; sec. 358(b), Pub. L. 104-59, 109 Stat. 625.

Issued on: August 6, 2002.
Gary E. Maring,
Director, Office of Freight Management and Operations.

[FR Doc. 02-20249 Filed 8-8-02; 8:45 am]

BILLING CODE 4910-22-P